DEPARTMENT OF TRANSPORTATION

Federal Highway Administration

Notice To Rescind Notice of Intent To Prepare an Environmental Impact Statement: Franklin and Warren Counties, MO

AGENCY: Federal Highway Administration (FHWA), DOT.

ACTION: Rescind Notice of Intent to prepare an environmental impact statement.

SUMMARY: The FHWA is issuing this notice to advise the public that we are rescinding the Notice of Intent (NOI) to prepare an environmental impact statement (EIS) for improvements that were proposed for Route 47 in Franklin and Warren Counties, Missouri. The NOI was published in the Federal Register on April 22, 2008. This rescission is based on a reduction in the scope of the project.

FOR FURTHER INFORMATION CONTACT: Peggy J. Casey, Environmental Projects Team Leader, FHWA Division Office, 3220 West Edgewood, Suite H, Jefferson City, Missouri 65109, Telephone: (573) 638-2620 or Kevin Keith, Chief Engineer, Missouri Department of Transportation, P.O. Box 270, Jefferson City, Missouri 65102, Telephone: (573) 526-5678.

SUPPLEMENTARY INFORMATION: The FHWA, in cooperation with the Missouri Department of Transportation (MoDOT), is rescinding the NOI to prepare an EIS for a project that had been proposed to improve the transportation system on Route 47 in Warren and Franklin Counties, Missouri. The NOI is being rescinded because the scope of the project has been reduced from the 2008 proposal to replace the existing bridge over the Missouri River and relocate or reconstruct Missouri Route 47 between Route 94 in Warren County and Fifth Street in the city of Washington in Franklin County. The currently proposed project will replace the Route 47 Bridge either immediately upstream or downstream from the existing bridge. The project extends roughly from Augusta Bottom Road in Warren County south to the touchdown in the city of Washington in Franklin County.

(Catalog of Federal Domestic Assistance Program Number 20.205, Highway Planning and Construction. The regulations implementing Executive Order 12372 regarding intergovernmental consultation on Federal programs and activities apply to this program.)

Issued on: May 25, 2010.
Peggy J. Casey,
Environmental Projects Team Leader, Jefferson City.

[FR Doc. 2010-13008 Filed 5-28-10; 8:45 am]

BILLING CODE 4910-22-P